DEPARTMENT OF HOMELAND SECURITY

Federal Emergency Management Agency

44 CFR Part 65

[Docket No. FEMA-D-7563]

Changes in Flood Elevation Determinations

AGENCY: Federal Emergency Management Agency (FEMA), Emergency Preparedness and Response Directorate, Department of Homeland Security.

ACTION: Interim rule.

SUMMARY: This interim rule lists communities where modification of the Base (1% annual chance) Flood Elevations (BFEs) is appropriate because of new scientific or technical data. New flood insurance premium rates will be calculated from the modified BFEs for new buildings and their contents.

DATES: These modified BFEs are currently in effect on the dates listed in the table and revise the Flood Insurance Rate Map(s) (FIRMs) in effect prior to this determination for each listed community.

From the date of the second publication of these changes in a newspaper of local circulation, any person has ninety (90) days in which to request through the community that the Director reconsider the changes. The modified elevations may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: The modified BFEs are not listed for each community in this interim rule. However, the address of the Chief Executive Officer of the community where the modified BFE determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State or regional entities.

The changes in BFEs are in accordance with 44 CFR 65.4.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as shown below:

State and county | Location | Dates and name of newspaper where notice was published | Chief Executive Officer of community | Effective date of modification | Community No.
Alabama: Calhoun | Unincorporated Areas | September 28, 2004; October 5, 2004; Anniston Star | Mr. Ken Joiner, Calhoun County Administrator, 1702 Noble Street, Suite 103, Anniston, Alabama 36201 | September 21, 2004 | 010013 C
Delaware: New Castle | Unincorporated Areas | August 17, 2004; August 24, 2004; The News Journal | Mr. Thomas P. Gordon, New Castle County Executive, New Castle County Government Center, 87 Reads Way, New Castle, Delaware 19720 | November 23, 2004 | 105085 G
Florida: Charlotte | Unincorporated Areas | August 5, 2004; August 12, 2004; Sun Herald | Mr. Bruce Loucks, Charlotte County Administrator, Charlotte County Administration Building, 18500 Murdock Circle, Port Charlotte, Florida 33948 | July 29, 2004 | 120061 F
Florida: Charlotte | Unincorporated Areas | September 27, 2004; October 4, 2004; Sun Herald | Mr. Bruce Loucks, Charlotte County Administrator, Charlotte County Administration Building, 18500 Murdock Circle, Port Charlotte, Florida 33948 | September 20, 2004 | 120061 F
New Jersey: Somerset | Township of Warren | September 9, 2004; The Echoes Sentinel | The Honorable Gary DiNardo, Mayor of the Township of Warren, Warren Township Municipal Building, 46 Mountain Boulevard, Warren, New Jersey 07059 | October 10, 2004 | 340446 B
North Carolina: Durham | City of Durham | August 11, 2004; August 18, 2004; The Herald Sun | The Honorable William V. Bell, Mayor of the City of Durham, Office of the Mayor, 101 City Hall Plaza, Durham, North Carolina 27701 | November 17, 2004 | 370086 G
South Carolina: Horry | Unincorporated Areas | August 27, 2004; September 3, 2004; The Sun News | Mr. Danny Knight, Horry County Administrator, P.O. Box 1236, Conway, South Carolina 29528 | December 3, 2004 | 450104 H
South Carolina: Charleston | City of Isle of Palms | October 1, 2004; October 8, 2004; The Post & Courier | The Honorable F. Michael Sottile, Mayor of the City of Isle of Palms, P.O. Box 508, Isle of Palms, South Carolina 29451 | September 23, 2004 | 455416 E
South Carolina: Sumter | Unincorporated Areas | August 26, 2004; September 2, 2004; The Item | Mr. William T. Noonan, Sumter County Administrator, 13 East Canal Street, Sumter, South Carolina 29150 | December 2, 2004 | 450182 C

(Catalog of Federal Domestic Assistance No. 83.100, “Flood Insurance”)
Dated: January 28, 2005.
David I. Maurstad,
Acting Director, Mitigation Division, Emergency Preparedness and Response Directorate.

[FR Doc. 05-2119 Filed 2-3-05; 8:45 am]

BILLING CODE 9110-12-P